DEPARTMENT OF VETERANS AFFAIRS

[OMB Control No. 2900-0491]

Agency Information Collection Activity: Community Residential Care Recordkeeping Requirements

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before December 15, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0491” in any correspondence.

FOR FURTHER INFORMATION CONTACT: Cynthia Harvey-Pryor, Office of Quality, Privacy and Risk (OQPR), Department of Veterans Affairs, 810 Vermont Avenue NW., Washington, DC 20420, (202) 461-5870 or email cynthia.harvey-pryor@va.gov Please refer to “OMB Control No. 2900-0491” in any correspondence.

SUPPLEMENTARY INFORMATION:

Authority: 38 CFR 17.63.

Title: Community Residential Care Recordkeeping Requirements.

OMB Control Number: 2900-0491.

Type of Review: Reinstatement of a currently approved collection.

Abstract: One of the standards a CRC must meet is the requirement that the CRC must maintain records on each resident in a secure place. Facility records must include emergency notification procedures and a copy of all signed agreements with the resident. 38 CFR 17.63(i). These records must be maintained by the CRC, and review and the CRC must make those records available for VA inspection upon request. A Medical Foster Home is a subtype of CRC and is required to comply with the record keeping requirements of 38 CFR 17.63(i). See 38 CFR 17.74(q). In addition, the CRC must maintain and make available upon request of the approving official, records related to CRC staff requirements, and provide that the CRC must have sufficient, qualified staff must be on duty and available to care for the resident and ensure the health and safety of each resident.

An agency may not conduct or sponsor, and a person is not required to respond to a collection of information unless it displays a currently valid OMB control number. The Federal Register Notice with a 60-day comment period soliciting comments on this collection of information was published at 82 FR 27332 on June 14, 2017 page 27332.

Affected Public: Individuals and households.

Estimated Annual Burden: 1,095 hours.

Estimated Average Burden per Respondent: 90 minutes.

Frequency of Response: Annually.

Estimated Number of Respondents: 730.

By direction of the Secretary.
Cynthia Harvey-Pryor,
Department Clearance Officer, Office of Quality, Privacy and Risk, Department of Veterans Affairs.

[FR Doc. 2017-24673 Filed 11-14-17; 8:45 am]

BILLING CODE 8320-01-P